DEPARTMENT OF THE INTERIOR

Fish and Wildlife Service

[FWS-R3-ES-2014-N091; FXES11130300000F3-145-FF03E00000]

Endangered and Threatened Wildlife and Plants; Permit Applications

AGENCY: Fish and Wildlife Service, Interior.

ACTION: Notice of availability; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before June 27, 2014.

ADDRESSES: Send written comments by U.S. mail to the Regional Director, Attn: Karl Tinsley, U.S. Fish and Wildlife Service, Ecological Services, 5600 American Blvd. West, Suite 990, Bloomington, MN 55437-1458; or by electronic mail to permitsR3ES@fws.gov.

FOR FURTHER INFORMATION CONTACT: Karl Tinsley, (612) 713-5330.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE82665A

Applicant: Melody L. Myers-Kinzie, Indianapolis, IN.

The applicant requests a permit renewal, with amendment to add winged mapleleaf (Quadrula fragosa) mussels, to take (capture and release) mussel species for the purpose of enhancement of survival of the species in the wild. The proposed amendment also includes adding the State of Wisconsin to the scope of the permit.

Permit Application Number: TE38842A

Applicant: Sanders Environmental, Inc., Bellefonte, PA.

The applicant requests a permit renewal, with amendment to add personnel, to take (capture and release) Indiana bats (Myotis sodalis) within the States of Illinois, Indiana, Iowa, Michigan, Missouri, Ohio, and Wisconsin. Proposed activities are for the enhancement of survival and recovery of the species in the wild.

Permit Application Number: TE234121

Applicant: Western Ecosystems Technology, Inc., Cheyenne, WY.

The applicant requests a permit amendment to take (capture and release) Indiana bats, gray bats (Myotis grisescens), Ozark big-eared bats (Corynorhinus townsendii ingens), and Virginia big-eared bats (Corynorhinus townsendii virginianus) within the States of Alabama, Arkansas, Connecticut, Delaware, Florida, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. The proposed amendment is for adding personnel to the scope of the permit. Proposed activities are for the enhancement of survival of the species in the wild.

Permit Application Number: TE207526

Applicant: Columbia Environmental Research Center, U.S. Geological Survey, Columbia, MO.

The applicant requests a permit renewal to take (capture, sample, release; capture and hold) pallid sturgeon (Scaphirhynchus albus) within the Missouri River and Middle Mississippi River. Proposed research activities are for the conservation and recovery of the species in the wild.

Permit Application Number: TE98032A

Applicant: James E. Gardner, Jefferson City, MO.

The applicant requests a permit amendment to take (capture and release) Indiana bat, gray bat, and Ozark big-eared bat within the States of Arkansas, Illinois, Iowa, Kansas, Kentucky, Minnesota, Missouri, Oklahoma, and Tennessee. The proposed amendment includes adding the northern long-eared bat (Myotis septentrionalis) and the State of Indiana to the scope of the permit. Proposed activities are for the recovery and enhancement of survival of the species in the wild.

Permit Application Number: TE21829B

Applicant: Larisa J. Bishop-Boros, Rochester, NY.

The applicant requests a permit amendment to take (capture, handle, and release) Indiana bats, gray bats, Virginia big-eared bats, and Ozark big-eared bats within the States of Alabama, Arkansas, Connecticut, Delaware, Florida, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Texas, Vermont, Virginia, West Virginia, and Wisconsin. The proposed amendment includes adding the northern long-eared bat and the activity of salvaging dead specimens. Proposed activities are for the recovery and enhancement of survival of the species in the wild.

Permit Application Number: TE135297

Applicant: Saint Louis Zoo, St. Louis, MO.

The applicant requests a permit amendment to take (capture and release; capture and hold) American burying beetle (Nicrophorus americanus) within the States of Missouri and Arkansas, and at the Zoo facility in St. Louis, MO. The proposed amendment is for adding personnel to the scope of the permit. Proposed activities are for the propagation and enhancement of survival of the species in the wild.

Permit Application Number: TE71720A

Applicant: Forest Preserve District of Will County, Plainfield, IL.

The applicant requests a permit renewal, with amendment to include the States of Illinois, Indiana, Ohio and Wisconsin, to take (capture and release) Indiana bats and gray bats. Proposed activities are for the recovery and enhancement of survival of the species in the wild.

Permit Application Number: TE212440

Applicant: John D. Chenger, Carlisle, PA.

The applicant requests a permit amendment to take (capture and release) Indiana bats and gray bats within the States of Alabama, Arkansas, Connecticut, Delaware, Florida, Georgia, Illinois, Indiana, Iowa, Kentucky, Maine, Maryland, Michigan, Mississippi, Missouri, New Hampshire, New Jersey, New York, North Carolina, Pennsylvania, Ohio, Oklahoma, Rhode Island, Tennessee, Vermont, Virginia, West Virginia, and Wisconsin. Proposed activities are for the recovery and enhancement of survival of the species in the wild.

Permit Application Number: TE35867B

Applicant: Lisa E. Powers, Urbana, IL.

The applicant requests a permit to take (capture and release) Indiana bats at Siloam Spring State Park, Clayton, Illinois. Proposed activities are for the recovery and enhancement of survival of the species in the wild.

Permit Application Number: TE35859B

Applicant: Charles E. Mills, Newburgh, IN.

The applicant requests a permit to take (harass) interior least tern (Sternula antillarum anthalassos) within the State of Indiana. Proposed activities involve protection of nests, nesting site enhancement, and studying phenology. Proposed activities are for the recovery and enhancement of survival of the species in the wild.

Permit Application Number: TE35857B

Applicant: Jason R. Holmes, Tumwater, WA.

The applicant requests a permit to take (capture and release) Indiana bats within the States of Connecticut, Delaware, Illinois, Indiana, Kentucky, Maine, Maryland, Massachusetts, New Hampshire, New Jersey, New York, North Carolina, Ohio, Pennsylvania, Rhode Island, South Carolina, Tennessee, Vermont, Virginia, and West Virginia. Proposed activities are for the recovery and enhancement of survival of the species in the wild.

Permit Application Number: TE35855B

Applicant: Laura E. D'Acunto, Lafayette, IN.

The applicant requests a permit to take (capture and release) Indiana bats and northern long-eared bats within the State of Indiana. Proposed activities are for the recovery and enhancement of survival of the species in the wild.

Permit Application Number: TE30970B

Applicant: Jeffery C. Miller, Kansas City, MO.

The applicant requests a permit to take (capture and release) Indiana bats, gray bats, northern long-eared bats, Ozark big-eared bats, and Rafinesque big-eared bats (Corynorhinus rafinesquii) within the States of Arkansas, Illinois, Indiana, Iowa, Kansas, Missouri, Ohio, and Oklahoma. Proposed activities are for the recovery and enhancement of survival of the species in the wild.

Permit Application Number: TE33521B

Applicant: Western EcoSystems Technology, Inc, Cheyenne, WY.

The applicant requests a permit to take (capture and release) the following listed fish and mussel species throughout their ranges, within the States of Arkansas, Florida, Georgia, Illinois, Indiana, Iowa, Kentucky, Michigan, Minnesota, Missouri, Ohio, Tennessee, and Wisconsin:

Mussel Species
Appalachian elktoe | Alasmidonta raveneliana.
Appalachian monkeyface | Quadrula sparsa.
Birdwing pearlymussel | Lemiox rimosus.
Clubshell | Pleurobema clava.
Cracking pearlymussel | Hemistena lata.
Cumberland bean | Villosa trabalis.
Cumberland elktoe | Alasmidonta atropurpurea.
Cumberland monkeyface | Quadrula intermedia.
Cumberland combshell | Epioblasma brevidens.
Dromedary pearlymussel | Dromus dromas.
Fanshell | Cyprogenia stegaria.
Fat pocketbook | Potamilus capax.
Finerayed pigtoe | Fusconaia cuneolus.
Fluted kidneyshell | Ptychobranchus subtentum.
Higgins' eye pearlymussel | Lampsilis higginsii.
Littlewing pearlymussel | Pegias fabula.
Northern riffleshell | Epioblasma torulosa rangiana.
Orange-footed pimpleback | Plethobasus cooperianus.
Oyster musselshell | Epioblasma capsaeformis.
Pale lilliput | Toxolasma cylindrellus.
Pink mucket pearlymussel | Lampsilis abrupta.
Purple bean | Villosa perpurpurea.
Purple cat's paw pearlymussel | Epioblasma obliquata obliquata.
Rabbitsfoot | Quadrula cylindrica cylindrica.
Rayed bean | Villosa fabalis.
Rink pink | Obovaria retusa.
Rough pigtoe | Pleurobema plenum.
Rough rabbitsfoot | Quadrula cylindrica strigillata.
Scaleshell mussel | Leptodea leptodon.
Sheepnose | Plethobasus cyphyus.
Shiny pigtoe | Fusconaia cor.
Snuffbox | Epioblasma triquetra.
Tan riffleshell | Epioblasma florentina walkeri.
Tubercled blossom | Epioblasma torulosa torulosa.
Turgid blossom | Epioblasma turgidula.
White cat's paw pearlymussel | Epioblasma obliquata perobliqua.
White wartyback | Plethobasus cicatricosus.
Winged mapleleaf | Quadrula fragosa.
Yellow blossom | Epioblasma florentina florentina.
Fish Species
Spotfin chub | Erimonax monachus.
Slender chub | Erimystax cahni.
Relict darter | Etheostoma chienense.
Tuxedo darter | Etheostoma lemniscatum.
Marbled darter | Etheostoma marmorpinnum.
Duskytail darter | Etheostoma percnurum.
Citico darter | Etheostoma sitikuense.
Snail darter | Percina tanasi.
Diamond darter | Crystallaria cincotta.
Cumberland darter | Etheostoma susanae.
Palezone shiner | Notropis albizonatus.
Blackside dace | Phoxinus cumberlandensis.

Proposed activities are for the recovery and enhancement of survival of the species in the wild.

Permit Application Number: TE35517B

Applicant: Bryan D. Arnold, Jacksonville, IL.

The applicant requests a permit to take (capture and release) Indiana bats, gray bats, and northern long-eared bats within the State of Illinois. Proposed activities are for the recovery and enhancement of survival of the species in the wild.

Permit Application Number: TE35872B

Applicant: John F. Tetzloff, Upper Arlington, OH.

The applicant requests a permit to take (capture and release) the following mussel species within the State of Ohio:

Mussel Species
Clubshell | Pleurobema clava.
Northern riffleshell | Epioblasma rangiana.
Fanshell | Cyprogenia stegaria.
Rayed bean | Villosa fabalis.
Pink Mucket | Lampsilis orbiculata.
Purple cat's paw | Epioblasma obliquata obliquata.
Sheepnose | Plethobasus cyphyus.
Snuffbox | Epioblasma triquetra.
White cat's paw | Epioblasma obliquata perobliqua.

Proposed activities include population surveys. Proposed activities are for the recovery and enhancement of survival of the species in the wild.

Permit Application Number: TE35518B

Applicant: Jeremy J. Sheets, Plymouth, IN.

The applicant requests a permit to take (capture and release) Indiana bats, gray bats, northern long-eared bats, and Virginia big-eared bats within the States of Alabama, Arkansas, Connecticut, Delaware, Florida, Georgia, Illinois, Indiana, Iowa, Kentucky, Louisiana, Maine, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the recovery and enhancement of survival of the species in the wild.

Permit Application Number: TE03494B

Applicant: GAI Consultants, Inc., Erlanger, KY.

The applicant requests a permit amendment to take (capture and release) Indiana bats, gray bats, Virginia big-eared bats, and Ozark big-eared bats throughout the States of Alabama, Arkansas, Connecticut, Delaware, Florida, Georgia. Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the recovery and enhancement of survival of the species in the wild.

Permit Application Number: TE35520B

Applicant: Leah E. Sefton, Mt. Pleasant, MI.

The applicant requests a permit to take (including tissue removal) for Pitcher's thistle (Cirsium pitcheri) within the State of Michigan. Proposed activities include the removal of plant material for genetic analysis, and are for the recovery and enhancement of survival of the species in the wild.

Permit Application Number: TE98295A

Applicant: Dallas Scott Settle, DBA Alliance Consulting, Fayetteville, WV.

The applicant requests a permit amendment to take (capture and release) Indiana bats, gray bats, and Virginia big eared bats within the States of Alabama, Arkansas, Connecticut, Florida, Georgia, Illinois, Indiana, Iowa, Kansas, Kentucky, Maryland, Massachusetts, Michigan, Mississippi, Missouri, New Jersey, New York, North Carolina, Ohio, Oklahoma, Pennsylvania, Tennessee, Vermont, Virginia, and West Virginia. Proposed activities are for the recovery and enhancement of survival of the species in the wild.

Permit Application Number: TE02560A

Applicant: Timothy C. Carter, Muncie, IN.

The applicant requests a permit renewal, with amendment, to take (capture and release) Indiana bats, gray bats, and northern long-eared bats within the States of Georgia, Illinois, Indiana, Iowa, Michigan, Missouri, Ohio, and Wisconsin. Proposed activities are for the enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: May 20, 2014.
Lynn M. Lewis,
Assistant Regional Director, Ecological Services, Midwest Region.

[FR Doc. 2014-12261 Filed 5-27-14; 8:45 a.m.]

BILLING CODE 4310-55-P